DEPARTMENT OF ENERGY

Federal Energy Regulatory Commission

[Docket No. CP05-393-000]

Tennessee Gas Pipeline Company; Notice of Request Under Blanket Authorization

July 14, 2005.

Take notice that on July 8, 2005, Tennessee Gas Pipeline Company (Tennessee), 1001 Louisiana Street, Houston, Texas 77002, filed in Docket No. CP05-393-000 a request pursuant to sections 157.205(b) and 157.208(f)(2) of the Commission's Regulations under the Natural Gas Act (18 CFR 157.205 and 157.208) for authorization to increase the maximum allowable operating pressure (MAOP) of its North Odem-Spartan lateral (Line 3A-100) located in San Patricio County, Texas, under the authorization issued in Docket No. CP82-413-000 pursuant to section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Jacques A. Hodges, Attorney, Tennessee Gas Pipeline Company, 1001 Louisiana Street, Houston, Texas 77002, at (713) 420—5680 or Fax (713) 420-1601 or Cynthia Hornstein Roney, Certificates & Regulatory Compliance, at (713) 420-3281 or fax (713) 420-1605.

Tennessee states that Line 3A-100 is connected to Tennessee's parallel mainlines designated as Line No. 100-1 and 100-2. Tennessee asserts that the operating pressure of its mainline is 750 psig, but whenever the pressure on the mainline exceeds 700 psig, producers on the lateral must be shut in to avoid pressure buildup that exceeds the 718 psig MAOP limit. Tennessee maintains that the proposed MAOP increase is needed so that Tennessee can consistently and reliably receive natural gas from the affected producers located on this lateral. Tennessee contends that the estimated project cost would be approximately $41,110.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Comments, protests and interventions may be filed electronically via the Internet in lieu of paper. See 18 CFR 385.2001(a)(1)(iii) and the instructions on the Commission's Web site under the “e-filing” link. The Commission strongly encourages electronic filings.

Linda Mitry,
Deputy Secretary.

[FR Doc. E5-3877 Filed 7-20-05; 8:45 am]

BILLING CODE 6717-01-P